DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593, or visit our Web site at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on December 1, 2015, through December 31, 2015. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Injury Compensation Programs, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: January 21, 2016.
James Macrae,
Acting Administrator.

List of Petitions Filed

1. Sandra Malone, Germantown, Tennessee, Court of Federal Claims No: 15-1439V.

2. Robert Petrillo, Revere, Massachusetts, Court of Federal Claims No: 15-1441V.

3. Nikysha Cyrus on behalf of Jayden A. Baker, Pittsburgh, Pennsylvania, Court of Federal Claims No: 15-1442V.

4. Robert Niziol on behalf of S. N., Tenafly, New Jersey, Court of Federal Claims No: 15-1446V.

5. Karen Green, Alameda, California, Court of Federal Claims No: 15-1447V.

6. Ruth Major, Linwood, New Jersey, Court of Federal Claims No: 15-1449V.

7. Jamie Edwardson, Ketchikan, Alaska, Court of Federal Claims No: 15-1450V.

8. Steven McKown and Tabitha McKown on behalf of C. M., Vienna, Virginia, Court of Federal Claims No: 15-1451V.

9. Leroy Albert Weinreich, Towson, Maryland, Court of Federal Claims No: 15-1454V.

10. Stephanie Dimasi, Boston, Massachusetts, Court of Federal Claims No: 15-1455V.

11. Olga Galvis, Dallas, Texas, Court of Federal Claims No: 15-1456V.

12. Jason Johnson, Rock Island, Illinois, Court of Federal Claims No: 15-1457V.

13. Tara Evans on behalf of B. E., Pagosa Springs, Colorado, Court of Federal Claims No: 15-1458V.

14. Jennifer Hinkley on behalf of Charles Tuttle, Deceased, Richmond, Maine, Court of Federal Claims No: 15-1459V.

15. Teresa Dianne Perdue on behalf of Robert Carlyle Perdue, Jr., Deceased, Boones Mill, Virginia, Court of Federal Claims No: 15-1460V.

16. Odolphone Nored, Greenwood, Mississippi, Court of Federal Claims No: 15-1461V.

17. Betsy Redfern, Boulder, Colorado, Court of Federal Claims No: 15-1462V.

18. Marilyn Wenker, Brooklyn, New York, Court of Federal Claims No: 15-1463V.

19. Jane Tougas, Marion, Massachusetts, Court of Federal Claims No: 15-1464V.

20. Michelle Dalton on behalf of A. D., Phoenix, Arizona, Court of Federal Claims No: 15-1465V.

21. Sarah Morris on behalf of G. M., Phoenix, Arizona, Court of Federal Claims No: 15-1466V.

22. Kiasha Leitch on behalf of N. W., Brooklyn, New York, Court of Federal Claims No: 15-1467V.

23. Kristal Grigg on behalf of N. G., Linwood, New Jersey, Court of Federal Claims No: 15-1468V.

24. Susan Boyer, Merr, Indiana, Court of Federal Claims No: 15-1469V.

25. Andrea Fuller on behalf of B. F., Phoenix, Arizona, Court of Federal Claims No: 15-1470V.

26. Jennifer Leedy, Cherry Hill, New Jersey, Court of Federal Claims No: 15-1471V.

27. Shelly Plescia, Fountain Valley, California, Court of Federal Claims No: 15-1472V.

28. Janet Cakir on behalf of C. A. C., Chapel Hill, North Carolina, Court of Federal Claims No: 15-1474V.

29. Laurie Simmon, Boston, Massachusetts, Court of Federal Claims No: 15-1475V.

30. Daryl Dawsonia, Boston, Massachusetts, Court of Federal Claims No: 15-1476V.

31. Diane C. Perl, Hamburg, New York, Court of Federal Claims No: 15-1477V.

32. Lou Ann Boersch, East Aurora, New York, Court of Federal Claims No: 15-1480V.

33. Adam Caselles and Lisa Caselles on behalf of N. A. C., Mission Viejo, California, Court of Federal Claims No: 15-1481V.

34. Robert Lovejoy, Sarasota, Florida, Court of Federal Claims No: 15-1484V.

35. Bettina McGill, Durham, North Carolina, Court of Federal Claims No: 15-1485V.

36. Andrew Potts, West Chester, Pennsylvania, Court of Federal Claims No: 15-1487V.

37. Richard Hesse, Dallas, Texas, Court of Federal Claims No: 15-1488V.

38. Matt Nichols, Fortville, Indiana, Court of Federal Claims No: 15-1490V.

39. Phyllis Weir, Fairview, Texas, Court of Federal Claims No: 15-1491V.

40. Jane M. Stuart, Livonia, Michigan, Court of Federal Claims No: 15-1493V.

41. Carla Shiel and Mathew Shiel on behalf of Zara Antoinette Shiel, Deceased, Henderson, Nevada, Court of Federal Claims No: 15-1496V.

42. Scott Marshall and Amy Marshall on behalf of H. M., Baraboo, Wisconsin, Court of Federal Claims No: 15-1497V.

43. Candace M Thompson and Stephen E. Powell on behalf of A. H. P., Ocean City, New Jersey, Court of Federal Claims No: 15-1498V.

44. Lee Patalowski, Lititz, Pennsylvania, Court of Federal Claims No: 15-1499V.

45. Daniel Doherty, Long Island, New York, Court of Federal Claims No: 15-1500V.

46. Doris Levitzki, Washington, District of Columbia, Court of Federal Claims No: 15-1502V.

47. Ronald Belair, Bakersfield, California, Court of Federal Claims No: 15-1503V.

48. Mario Reyes-Nieto, Riverside, California, Court of Federal Claims No: 15-1504V.

49. Susan G. Webber, Woodstock, Georgia, Court of Federal Claims No: 15-1506V.

50. Monty Lowas, Manteca, California, Court of Federal Claims No: 15-1507V.

51. Aileen Goner, Hallandale Beach, Florida, Court of Federal Claims No: 15-1508V.

52. David Parker, Philadelphia, Pennsylvania, Court of Federal Claims No: 15-1512V.

53. Maxie Downs, Albertville, Alabama, Court of Federal Claims No: 15-1513V.

54. Bryant Thompson, Seward, Nebraska, Court of Federal Claims No: 15-1514V.

55. Ian Brooks, Chicago, Illinois, Court of Federal Claims No: 15-1515V.

56. Tonya Brock, Hixson, Tennessee, Court of Federal Claims No: 15-1516V.

57. Edward Piotrowski, Itasca, Illinois, Court of Federal Claims No: 15-1517V.

58. Jamie J. Dyson, Orlando, Florida, Court of Federal Claims No: 15-1518V.

59. Eric G. Craver, Greensboro, North Carolina, Court of Federal Claims No: 15-1519V.

60. Tracy Mollica on behalf of A. M., Cranberry Township, Pennsylvania, Court of Federal Claims No: 15-1520V.

61. Heidi White and David White on behalf of A. C. W., Exeter, New Hampshire, Court of Federal Claims No: 15-1521V.

62. Stacia Wright, Beverly Hills, California, Court of Federal Claims No: 15-1523V.

63. Gary Harris, San Antonio, Texas, Court of Federal Claims No: 15-1525V.

64. Abigail Sims and Daniel Sims on behalf of A. E. S., Deceased, Oxford, Pennsylvania, Court of Federal Claims No: 15-1526V.

65. John Homick and Rachel Homick on behalf of Z. H., Pittsburgh, Pennsylvania, Court of Federal Claims No: 15-1529V.

66. Diane Streck, Scottsboro, Alabama, Court of Federal Claims No: 15-1530V.

67. Carole Batson, Chicago, Illinois, Court of Federal Claims No: 15-1531V.

68. Cathy Bruno on behalf of C B, Pittsburgh, Pennsylvania, Court of Federal Claims No: 15-1537V.

69. Viola Bentley, Bethesda, Maryland, Court of Federal Claims No: 15-1540V.

70. Elizabeth Ann Gray, Gallatin, Tennessee, Court of Federal Claims No: 15-1542V.

71. Olivia Rodriguez, Philadelphia, Pennsylvania, Court of Federal Claims No: 15-1543V.

72. Nancy Conley, Beverly Hills, California, Court of Federal Claims No: 15-1544V.

73. David Merritt, Beverly Hills, California, Court of Federal Claims No: 15-1545V.

74. Doris Steinbach, Athol, Massachusetts, Court of Federal Claims No: 15-1546V.

75. Bernadette Dicianni and Michael Szilagyi on behalf of D. S., Chicago, Illinois, Court of Federal Claims No: 15-1548V.

76. Mona Holtry, Shippensburg, Pennsylvania, Court of Federal Claims No: 15-1551V.

77. Karol Danner-Rieland, Boston, Massachusetts, Court of Federal Claims No: 15-1552V.

78. Sherri Harrod on behalf of Jonathan Patton, St. Petersburg, Florida, Court of Federal Claims No: 15-1553V.

79. John Cogliandro, Woburn, Massachusetts, Court of Federal Claims No: 15-1557V.

80. Marcus C. Turner, Austin, Texas, Court of Federal Claims No: 15-1561V.

81. David Landis, Cary, North Carolina, Court of Federal Claims No: 15-1562V.

82. Vanessa Wood on behalf of A. W., Fort Dodge, Iowa, Court of Federal Claims No: 15-1568V.

83. Glenda Ivy, Fredericksburg, Texas, Court of Federal Claims No: 15-1569V.

84. Kimberly Bertolucci and Arthur Joseph McCauley, III on behalf of E. M., Napa, California, Court of Federal Claims No: 15-1573V.

85. Carmen James on behalf of A J, Phoenix, Arizona, Court of Federal Claims No: 15-1576V.

86. Hope Doucet on behalf of A. C., Deceased, Phoenix, Arizona, Court of Federal Claims No: 15-1577V.

87. Michael DeAngelo, Laughlin, Nevada, Court of Federal Claims No: 15-1578V.

88. Laura McKenna, Abington, Pennsylvania, Court of Federal Claims No: 15-1580V.

89. Stephen Lesicko, Dresher, Pennsylvania, Court of Federal Claims No: 15-1581V.

90. Donna Soderman, Dresher, Pennsylvania, Court of Federal Claims No: 15-1582V.

91. Gerry Ramey, Dresher, Pennsylvania, Court of Federal Claims No: 15-1585V.

92. Stacey Nash, Oakland, California, Court of Federal Claims No: 15-1587V.

93. Evelyn Bell, Philadelphia, Pennsylvania, Court of Federal Claims No: 15-1588V.

94. Melvin Craig, Sarasota, Florida, Court of Federal Claims No: 15-1590V.

[FR Doc. 2016-02245 Filed 2-4-16; 8:45 am]

BILLING CODE 4165-15-P